DEPARTMENT OF JUSTICE

Antritrust Division

Notice Pursuant to the National Cooperative Research and Production Act of 1993—National Fluid Power Association: Cooperative Network for Research in Motion Control Through Fluid Power

Notice is hereby given that, on September 21, 2004, pursuant to section 6(a) of the National Cooperative Research and Production Act of 1993, 15 U.S.C. 4301 et seq. (“the Act”), National Fluid Power Association: Cooperative Network for Research in Motion Control Through Fluid Power (“CNR”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identifies of the parties are National Fluid Power Association, Milwaukee, WI; Ace Controls, Inc., Farmington Hills, MI; Balluff, Inc., Florence, KY; Bimba Manufacturing Company, Monee, IL; Enfield Technologies, Trumbull, CT; Bosch Rexroth Corporation, Hoffman Estates, IL; Caterpillar Inc., Joliet, IL; Eaton Corporation, Eden Prairie, MN; Festo Corporation, Hauppauge, NY; Gates Corporation, Denver, CO; Hoerbiger-Origa Corporation, Glendale Heights, IL; HUSCO International, Inc., Waukesha, WI; Moog Inc., East Aurora, NY; Parker Hannifin Corporation, Cleveland, OH; Ross Controls, Troy, MI; Quality Control Corporation, Chicago, IL; Sauer-Danfoss, Ames, IA; Georgia Institute of Technology, Atlanta, GA; Milwaukee School of Engineering, Milwaukee, WI; and University of Minnesota, Minneapolis, MN. The nature and objectives of CNR's planned activities are to strengthen ties between researchers and the fluid power industry, stimulate interest in fluid power at research universities, attract highly qualified students to the study of fluid power, to provide and make accessible quality university research and development on motion control issues facing the fluid power industry as a whole, and to advance the promotion of, provide support for, and encourage participation in, research, development, and education relevant to the fluid power industry in general. CNR's initial research projects include the development of: (i) A numerical model (and associated computer program) of a generalized reciprocating hydraulic rod seal, including mixed lubrication and surface roughness; (ii) a unique and complete integration of fabrication and design optimization leading to the creation of hydraulic or pneumatic components that derive their light weight and high stiffness from engineered small-scale internal structures; and (iii) integrated PTQ (pressure, temperature and flow rate) sensing for fluid power systems.

These three projects will be conducted by the Georgia Institute of Technology, Milwaukee School of Engineering, and the University of Minnesota respectively.

Dorothy B. Fountain,
Deputy Director of Operations, Antritrust Division.

[FR Doc. 04-25851 Filed 11-19-04; 8:45 am]

BILLING CODE 4410-11-M